DEPARTMENT OF COMMERCE

Bureau of Industry and Security

[Docket No. 02-BIS-11]

Action Affecting Export Privileges; Ahwaz Steel Commercial & Technical Service Gmbh

In the Matter of: Ahwaz Steel Commercial & Technical Service Gmbh, Tersteegenstr. 10, 40474 Dusseldorf, Germany, Respondent.

Order

The Bureau of Industry and Security, United States Department of Commerce (“BIS”), having initiated an administrative proceeding against Ahwaz Steel Commercial & Technical Service Gmbh (“ASCOTEC)” pursuant to section 13(c) of the Export Administration Act of 1979, as amended (50 U.S.C. app. 2401-2420 (2000)) (“Act”),¹ and the Export Administration Regulations (currently codified at 15 CFR parts 730-774 (2003)) (“Regulations”) ² based on allegations in a charging letter issued to ASCOTEC that alleged that ASCOTEC committed eight violations of the Regulations, specifically that ASCOTEC committed violations of the Regulations by causing the export of items from the United States to Iran without the required authorization from the Office of Foreign Assets Control, Department of the Treasury, as required by the Regulations on eight occasions; and

¹ From August 21, 1994 through November 12, 2000, the Act was in lapse. During that period, the President, through Executive Order 12924, which had been extended by successive Presidential Notices, the last of which was issued on August 3, 2000 (3 CFR, 2000 Comp. 397 (2001)), continued the Regulations in effect under the International Emergency Economic Powers Act (50 U.S.C. 1701-1706 (2000)) (IEEPA). On November 13, 2000, the Act was reauthorized and it remained in effect through August 20, 2001. The Act expired on August 20, 2001. Executive Order 13222 of August 17, 2001 (3 CFR 2001 Comp., p. 783 (2002)), which has been extended by successive Presidential Notices, the most recent being that of August 7, 2003 (68 FR 47833, August 11, 2003), continues the Regulations in effect under IEEPA.

² The Regulations are currently codified in the Code of Federal Regulations at 15 CFR, parts 730-774 (2003). The violations charged occurred from 1999 to 2002. The Regulations governing the violations are codified at 15 CFR, parts 730-774 (1999-2002). They are substantially the same as the 2003 version of the Regulations which govern the procedural aspects of this case.

BIS and ASCOTEC having entered into a Settlement Agreement pursuant to Section 766.18(b) of the Regulations whereby they agreed to settle this matter in accordance with the terms and conditions set forth therein, and the terms of the Settlement Agreement having been approved by me;

It Is Therefore Ordered:

First, that, for a period of five years from the date of this Order (hereinafter the “Denial Period''), Ahwaz Steel Commercial & Technical Service Gmbh, Terteegenstr. 10,40474 Dusseldorf, Germany, shall be denied its U.S. export privileges as described herein. ASCOTEC, and all of its successors, assigns, officers, representatives, agents, and employees, may not participate, directly or indirectly, in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United states that is subject to the Regulations, or in any other activity subject to the Regulations.

Second, that, during the Denial Period, no person may, directly or indirectly, do any of the following:

A. Export or reexport to or on behalf of a person subject to this Order any item subject to the Regulations;

B. Take any action that facilitates the acquisition or attempted acquisition by a person subject to this Order of the ownership, possession, or control of any item subject to the Regulations that has been or will be exported from the United States, including financing or other support activities related to a transaction whereby a person subject to this order acquires or attempts to acquire such ownership, possession or control;

C. Take any action to acquire from or to facilitate the acquisition or attempted acquisition from a person subject to this Order of any item subject to the Regulations that has been exported from the United States;

D. Obtain from a person subject to this Order in the United States any item subject to the Regulations with knowledge or reason to know that the item will be, or is intended to be, exported from the United States; or

E. Engage in any transaction to service any item subject to the Regulations that has been or will be exported from the United States and which is owned, possessed or controlled by a person subject to this Order, or service any item, of whatever origin, that is owned, possessed or controlled by a person subject to this Order if such service involves the use of any item subject to the Regulations that has been or will be exported from the United States. For purposes of this paragraph, servicing means installation, maintenance, repair, modification or testing.

Third, that after notice opportunity for comment as provided in § 766.23 of the Regulations, any other person, firm, corporation, or business organization related to the denied person by affiliation, ownership, control, or position of responsibility in the conduct of trade or related services may also be made subject to the provisions of this Order.

Fourth, that this Order does not prohibit any export, reexport, or other transaction subject to the Republicans where the only items involved that are subject to the Regulations are the foreign-produced direct product of U.S.-origin technology.

Fifth, that, as authorized by § 766.18(c) of the Regulations, the final three years of the denial period set forth above shall be suspended for five years from the date of entry of this Order, and shall thereafter be waived, provided that, during the period of suspension, ASCOTEC has not committed a violation of the Act or any regulation, license, or order, including this Order, issued thereunder.

Sixth, that a civil penalty of $50,000 is assessed against ASCOTEC which shall be paid to the U.S. Department of Commerce within thirty days from the date of entry of this Order. Payment shall be made in the manner specified in the attached instructions.

Seventh, that, pursuant to the Debt Collection act of 1982, as amended (31 U.S.C. 3701-3720E (1983 and Supp. 2000)), the civil penalty owed under this Order accrues interest as more fully described in the attached Notice, and, if payment is not made by the due date specified herein, ASCOTEC will be assessed, in addition to the full amount of the civil penalty and interest, a penalty charge and an administrative charge, as more fully described in the attached Notice.

Eighth, that the timely payment of the civil penalty set forth above is hereby made a condition to the granting, restoration, or continuing validity of any export license, license exception permission, or privilege granted, or to be granted, to ASCOTEC.

Ninth, that the charging letter, the Settlement Agreement, and this Order shall be made available to the public.

Tenth, that a copy of this Order shall be delivered to the Honorable Edwin M. Bladen, Administrative Law Judge, United States Coast Guard, 915 Second Avenue, Room 3448, Jackson Federal Building, Seattle, Washington 98174; and to the United States Coast Guard ALJ Docketing Center, 40 Gay Street, Baltimore, Maryland 21202-4022, providing notification that case number 02-BIS-11 naming ASCOTEC as a respondent is withdrawn from adjudication, as provided by § 766.18(b) of the Regulations.

This Order, which constitutes the final agency action in this matter, is effective immediately.

Entered this 17th day of November, 2003.
Julie L. Myers,
Assistant Secretary of Commerce for Export Enforcement.

Instructions for Payment of Civil Penalty

1. The civil penalty check should be made payable to: U.S. Department of Commerce.

2. The check should be mailed to U.S. Department of Commerce, Bureau of Industry and Security, Export Enforcement Team, Room H-6877, 14th Street and Constitution Avenue, NW., Washington, DC 20230, Attn: Sharon Gardner.

Notice

The Order to which this Notice is attached describes the reasons for the assessment of the civil monetary penalty. It also specifies the amount owed and the date by which payment of the civil penalty is due and payable.

Under the Debt Collection Act of 1982, as amended (31 U.S.C. 3701-3702E(2000)), and the Federal Claims Collection Standards (31 CFR part 900-904 (2003)), interest accrues on any and all civil monetary penalties owed and unpaid under the Order, from the date of the Order until paid in full. The rate of interest assessed respondent is the rate of the current value of funds to the U.S. Treasury on the date that the Order was entered. However, interest is waived on any portion paid within 30 days of the date of the Order. See 31 U.S.C. 3717 and 31 CFR 901.0.

The civil monetary penalty will be delinquent if not paid by the due date specified in the Order. If the penalty becomes delinquent, interest will continue to accrue on the balance remaining due and unpaid, and respondent will also be assessed both an administrative charge to cover the cost of processing and handling the delinquent claim and a penalty charge of six percent per years. However, although the penalty charge will be computed from the date that the civil penalty becomes delinquent, it will be assessed only on sums due and unpaid for over 90 days after that date. See 31 U.S.C. 3717 and 31 CFR 901.9.

The foregoing constitutes the initial written notice and demand to respondent in accordance with 901.2(b) of the Federal Claims Collection Standards (31 CFR 901.2(b)).

[FR Doc. 03-29782 Filed 11-28-03; 8:45 am]

BILLING CODE 3510-DT-M